Title 3—

The President

Notice of February 7, 2022

Continuation of the National Emergency With Respect to the Situation in and in Relation to Burma

On February 10, 2021, by Executive Order 14014, I declared a national emergency pursuant to the International Emergency Economic Powers Act (50 U.S.C. 1701-1706) to deal with the unusual and extraordinary threat to the national security and foreign policy of the United States constituted by the situation in and in relation to Burma.

The situation in and in relation to Burma, and in particular the February 1, 2021 coup, in which the military overthrew the democratically elected civilian government of Burma and unjustly arrested and detained government leaders, politicians, human rights defenders, journalists, and religious leaders, thereby rejecting the will of the people of Burma as expressed in elections held in November 2020 and undermining the country's democratic transition and rule of law, continues to pose an unusual and extraordinary threat to the national security and foreign policy of the United States. For this reason, the national emergency declared on February 10, 2021, must continue in effect beyond February 10, 2022. Therefore, in accordance with section 202(d) of the National Emergencies Act (50 U.S.C. 1622(d)) I am continuing for 1 year the national emergency declared in Executive Order 14014 with respect to the situation in and in relation to Burma.

This notice shall be published in the Federal Register and transmitted to the Congress.

THE WHITE HOUSE,

February 7, 2022.

[FR Doc. 2022-02934

Filed 2-8-22; 11:15 am]

Billing code 3395-F2-P